DEPARTMENT OF ENERGY

Federal Energy Regulatory Commission

Combined Notice of Filings #2

Take notice that the Commission received the following electric corporate filings:

Docket Numbers: EC18-18-000.

Applicants: Longview Power, LLC.

Description: Application for Approval Under Section 203 of the Federal Power Act and Request for Expedited Action of Longview Power, LLC.

Filed Date: 11/13/17.

Accession Number: 20171113-5255.

Comments Due: 5 p.m. ET 12/4/17.

Take notice that the Commission received the following electric rate filings:

Docket Numbers: ER17-440-004.

Applicants: Alpaca Energy LLC.

Description: Compliance filing: Compliance Filing of Revised Rate Schedule to be effective 2/1/2017.

Filed Date: 11/13/17.

Accession Number: 20171113-5292.

Comments Due: 5 p.m. ET 12/4/17.

Docket Numbers: ER17-444-004.

Applicants: Milan Energy LLC.

Description: Compliance filing: Compliance Filing of Revised Rate Schedule to be effective 2/1/2017.

Filed Date: 11/13/17.

Accession Number: 20171113-5291.

Comments Due: 5 p.m. ET 12/4/17.

Docket Numbers: ER18-283-000.

Applicants: EUI Affiliate LLC.

Description: § 205(d) Rate Filing: EUI Affiliate LLC MBR Tariff Revised to be effective 11/14/2017.

Filed Date: 11/13/17.

Accession Number: 20171113-5219.

Comments Due: 5 p.m. ET 12/4/17.

Docket Numbers: ER18-284-000.

Applicants: PJM Interconnection, L.L.C.

Description: Tariff Cancellation: Notice of Cancellation of Original Service Agreement No. 4595, Queue No. AB1-098 to be effective 9/25/2017.

Filed Date: 11/13/17.

Accession Number: 20171113-5269.

Comments Due: 5 p.m. ET 12/4/17.

Docket Numbers: ER18-285-000.

Applicants: PJM Interconnection, L.L.C.

Description: § 205(d) Rate Filing: Original Service Agreement 4818, Queue No. AA1-006 (WMPA) to be effective 6/2/2015.

Filed Date: 11/13/17.

Accession Number: 20171113-5281.

Comments Due: 5 p.m. ET 12/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2017.
Kimberly D. Bose,
Secretary.

[FR Doc. 2017-25078 Filed 11-17-17; 8:45 am]

BILLING CODE 6717-01-P